DEPARTMENT OF DEFENSE

Department of the Navy

Record of Decision for the United States Marine Corps Basewide Utilities Infrastructure Project at Marine Corps Base Camp Pendleton, CA

AGENCY: Department of the Navy, DoD.

ACTION: Record of Decision.

SUMMARY: Pursuant to Section 102(2)(c) of the National Environmental Policy Act (NEPA) of 1969, 42 United States Code (U.S.C.) Section 4332(2)(c), the regulations of the Council on Environmental Quality (CEQ) for Implementing the Procedural Provisions of NEPA (40 Code of Federal Regulations [CFR] parts 1500-1508), the Department of the Navy (DoN) NEPA regulations (32 CFR part 775), and the Marine Corps Environmental Compliance and Protection Manual, which is Marine Corps Order P5090.2A w/change 2 (MCO P5090.2A), the DoN announces its decision to upgrade and improve the Basewide water, wastewater, electrical, communication, and natural gas systems at Marine Corps Base Camp Pendleton (MCBCP), California as described in Alternative 1, the Preferred Alternative. The Preferred Alternative best meets the purpose and need for the proposed action in terms of the screening criteria applied, including having the least number of impacts to the environment of the action alternatives and the least impacts to base operations and training.

The proposed action will include the construction, operation, and maintenance of utility infrastructure upgrades, expansions, and improvements within MCBCP. These improvements will include a new tertiary wastewater treatment plant and associated facilities serving the northern portion of MCBCP; upgrades to the Base electrical distribution systems and associated facilities, including replacement of existing 4.16kV and 12kV electrical distribution systems; upgrades to the Basewide communication systems; upgrades to the Basewide natural gas systems; and new water and wastewater facilities and road improvements to Range 130. All practical means to avoid or minimize environmental harm from the selected alternative have been adopted.

SUPPLEMENTARY INFORMATION: The complete text of the Record of Decision is available for public viewing on the project Web site at http://www.cpp.usmc.mil/base/environmental/index.asp along with copies of the final Environmental Impact Statement (EIS). For further information, contact the Basewide Utilities Infrastructure EIS Project Manager, 1220 Pacific Highway, San Diego, California 92132-5190. Telephone: 619-532-3844.

Dated: September 23, 2010.
D.J. Werner,
Lieutenant Commander, Office of the Judge Advocate General, U.S. Navy, Federal Register Liaison Officer.

[FR Doc. 2010-24463 Filed 9-28-10; 8:45 am]

BILLING CODE 3810-FF-P